OFFICE OF SCIENCE AND TECHNOLOGY POLICY

National Science and Technology Council Subcommittee on Research Business Models

ACTION: Request for information regarding National Science and Technology Council/Committee on Science/Subcommittee on Research Business Models.

SUMMARY: The Subcommittee on Research Business Models is undertaking a review of policies, procedures, and plans relating to the business relationship between federal agencies and research performers with the goal of improving the performance and management of federally sponsored basic and applied scientific and engineering research. As part of that effort, the Subcommittee will hold a series of regional workshops in the Fall of 2003 to solicit input and feedback from the research performer community. This notice is intended to collect data that will assist the Subcommittee in setting agendas for those regional workshops.

DATES: Submit comments on or before September 22, 2003.

ADDRESSES: Due to potential delays in OSTP's receipt and processing of mail sent through the U.S. Postal Service, we encourage respondents to submit comments electronically to ensure timely receipt. We cannot guarantee that comments sent via surface mail will be received before the comment closing date.

Electronic comments may be submitted to: nstc_rbm@ostp.eop.gov. Please include in the subject line the words “NSTC Research Business Models Comments” and a reference to the relevant items, enumerated below as A-J. Please put the full body of your comments in the text of the electronic message and as an attachment. Be certain to include your name, title, organization, postal address, telephone number, and E-mail address in the text of the message.

Comments may be mailed to Michael J. Holland; Office of Science & Technology Policy; 1650 Pennsylvania Ave., NW., Washington, DC 20502. But again, we strongly encourage respondents to submit comments electronically.

FOR FURTHER INFORMATION CONTACT: For information regarding this Notice, please call Michael Holland, Office of Science & Technology Policy, (202) 456-6069 (direct) and e-mail: mholland@ostp.eop.gov.

SUPPLEMENTARY INFORMATION:

Background

This notice requests data and specific examples from the general public and all interested parties regarding the activities of the Subcommittee on Research Business Models chartered under the Committee on Science of the National Science and Technology Council. The Committee on Science realizes that much has changed about the practice of scientific research over the last several years. The purpose of the Subcommittee on Research Business Models is to advise and assist the Committee on Science and the NSTC on policies, procedures, and plans relating to business models to improve the efficiency, effectiveness and accountability of the Federal research and development enterprise in a manner cognizant of currently available resources. The Subcommittee will

• Facilitate a strong, coordinated effort across federal agencies to identify and address important policy implications arising from the changing nature of basic and applied research.

• Examine the concomitant influence these changes have had or should have on business models and business practices for the conduct of basic and applied research sponsored by the Federal government and carried out by academic, industrial, and government entities.

• Review the challenges to improved performance and mechanisms for more transparent accountability of the research enterprise.

The membership of the Subcommittee includes representatives from fifteen Federal departments and agencies that support or are engaged in research activities. The Subcommittee on Research Business Models will consult and coordinate with other ongoing, relevant efforts including, but not limited to, those of the Interagency Electronic Grants Committee (IAEGC) and the CFO Grants Management Council (GMC) Public Law 106-107 Workgroups.

Request for Information

In order to assist the public in its response, the Subcommittee has identified the following areas in which they would like to receive comments, including how changes in these areas have impacted research costs. However, the Subcommittee welcomes comments and suggestions in other areas that may not be included in the following questions.

A. Accountability. What constitutes accountability for the Federally-supported research enterprise? How can performers best demonstrate results or return on Federal research investments? Please suggest mechanisms whereby research managers can more transparently demonstrate responsible use of public resources.

B. Inconsistency of policies and practices among Federal agencies. Can you identify specific Federal policies and practices that if simplified would improve the efficiency and cost effectiveness of the research enterprise? Can the impact of inconsistent policies and practices among Federal agencies on the research environment be quantified? Among the variations in policies and practices, which practices appear to be the best? Why?

C. Inconsistency of policies and practices among universities. Can you identify specific university policies and practices that if simplified would improve the efficiency and cost effectiveness of the research enterprise?

D. State and Institutional requirements. What is the prevalence and impact of state and institutional requirements that are added to Federal requirements for research funding?

E. Regulatory requirements. Is there a more efficient approach to meeting the intent of the current suite of administrative requirements and regulations? Please provide examples.

F. Research support. How can public funding mechanisms and policies encourage or discourage innovative approaches to research? Does the current process for research funding encourage or discourage innovative research? How do support mechanisms influence the mix of investigators supported (e.g., principal investigators, research scientists, postdoctoral scholars, graduate students, or technicians)? How can changes in the conduct of science and engineering necessitate modified funding models? Are data available to help decide these questions?

G. Multidisciplinary/collaborative research. Are any funding organizations, either inside or outside of government, employing funding mechanisms or strategies that are particularly effective in encouraging multidisciplinary work, collaborative activities, and other innovative approaches? Are there any data available relevant to these questions?

H. Research Infrastructure. What information is available to examine policies at the Federal, State, local or institutional level that affect research infrastructure and the costs of building, maintaining and/or operating the research infrastructure' What factors influence performers' investments in research infrastructure? What data are available to demonstrate that? What information is available on the mix of sources used to finance research infrastructure?

I. Information Technology. How has information technology impacted the efficiency, performance, or costs of research management? Are there data to demonstrate any effect?

J. Technology transfer optimization. Are data available to examine whether intellectual property and patent agreements have changed relationships among universities, industry, and the government?

Authority

The National Science and Technology Council (NSTC) was established under Executive Order 12881 on November 23, 1993, and subsequently reestablished by President Bush. The Committee on Science is chartered under the NSTC. The purpose of the Committee on Science is to advise and assist the NSTC, with emphasis on those federally supported efforts that develop new knowledge in the sciences mathematics, and engineering.

Kathie L. Olsen,
Associated Director.

[FR Doc. 03-19935 Filed 8-5-03; 8:45 am]

BILLING CODE 3170-01-P